ENVIRONMENTAL PROTECTION AGENCY

[FRL-9194-5]

National Advisory Council for Environmental Policy and Technology

AGENCY: Environmental Protection Agency (EPA).

ACTION: Notice of meeting.

SUMMARY: Under the Federal Advisory Committee Act, Public Law 92463, EPA gives notice of a public meeting of the National Advisory Council for Environmental Policy and Technology (NACEPT). NACEPT provides advice to the EPA Administrator on a broad range of environmental policy, technology, and management issues. NACEPT represents diverse interests from academia, industry, non-governmental organizations, and local, State, and tribal governments. The Council will continue discussing the workplans it is developing to respond to EPA's request for advice on workforce issues the Agency is facing and how EPA can best address the needs of vulnerable populations. A copy of the agenda for the meeting will be posted at http://www.epa.gov/ocem/nacept/cal-nacept.htm.

DATES: NACEPT will hold a public meeting on Monday, September 27, 2010 from 9 a.m. to 5:30 p.m. and Tuesday, September 28, 2010 from 8:30 a.m. to 2 p.m. Eastern Daylight Time.

ADDRESSES: The meeting will be held in the Madison, Loews Hotel, 1177 15th Street, NW., Washington, DC 20005.

FOR FURTHER INFORMATION CONTACT: Nancy New, Acting Designated Federal Officer, new.nancy@epa.gov, (202) 564-0464, U.S. EPA, Office of Federal Advisory Committee Management and Outreach (1601M), 1200 Pennsylvania Avenue, NW., Washington, DC 20460.

SUPPLEMENTARY INFORMATION: Requests to make oral comments or to provide written comments to NACEPT should be sent to Nancy New at (202) 564-0464 or new.nancy@epa.gov by Tuesday, September 21, 2010. The public is welcome to attend all portions of the meeting, but seating is limited and is allocated on a first-come, first-serve basis. Members of the public wishing to attend should contact Nancy New at (202) 564-0464 or new.nancy@epa.gov by September 21, 2010.

Meeting Access: For information on access or services for individuals with disabilities, please contact Nancy New at (202) 564-0464 or new.nancy@epa.gov. To request accommodation of a disability, please contact Nancy New, preferably 10 days prior to the meeting, to give EPA as much time as possible to process your request.

Dated: August 16, 2010.
Nancy New,
Acting Designated Federal Officer.

[FR Doc. 2010-21549 Filed 8-27-10; 8:45 am]

BILLING CODE 6560-50-P